DEPARTMENT OF ENERGY

[FE Docket No. 10-161-LNG; FE Docket No. 11-59-LNG; FE Docket No. 11-128-LNG; et. al.]

Life Cycle Greenhouse Gas Perspective on Exporting Liquefied Natural Gas From the United States

AGENCY: Office of Fossil Energy, Department of Energy.

ACTION: Notice of Availability of Life Cycle Greenhouse Gas Perspective on Exporting Liquefied Natural Gas from the United States and request for comments.

Freeport LNG Expansion, L.P. and FLNG Liquefaction, LLC | [FE Docket No. 10-161-LNG].
Lake Charles Exports, LLC | [FE Docket No. 11-59-LNG].
Dominion Cove Point LNG, LP | [FE Docket No. 11-128-LNG].
Freeport LNG Expansion, L.P. and FLNG Liquefaction, LLC | [FE Docket No. 11-161-LNG].
Cameron LNG, LLC | [FE Docket No. 11-162-LNG].
Gulf Coast LNG Export, LLC | [FE Docket No. 12-05-LNG].
Jordan Cove Energy Project, L.P | [FE Docket No. 12-32-LNG].
LNG Development Company, LLC (d/b/a Oregon LNG) | [FE Docket No. 12-77-LNG].
Cheniere Marketing, LLC | [FE Docket No. 12-97-LNG].
Southern LNG Company, L.L.C. | [FE Docket No. 12-100-LNG].
Gulf LNG Liquefaction Company, LLC | [FE Docket No. 12-101-LNG].
CE FLNG, LLC | [FE Docket No. 12-123-LNG].
Excelerate Liquefaction Solutions I, LLC | [FE Docket No. 12-146-LNG].
Golden Pass Products LLC | [FE Docket No. 12-156-LNG].
Pangea LNG (North America) Holdings, LLC | [FE Docket No. 12-184-LNG].
Trunkline LNG Export, LLC | [FE Docket No. 13-04-LNG].
Freeport-McMoRan Energy LLC | [FE Docket No. 13-26-LNG].
Sabine Pass Liquefaction, LLC | [FE Docket No. 13-30-LNG].
Sabine Pass Liquefaction, LLC | [FE Docket No. 13-42-LNG].
Venture Global LNG, LLC | [FE Docket No. 13-69-LNG].
Eos LNG LLC | [FE Docket No. 13-116-LNG].
Barca LNG LLC | [FE Docket No. 13-118-LNG].
Sabine Pass Liquefaction, LLC | [FE Docket No. 13-121-LNG].
Magnolia LNG, LLC | [FE Docket No. 13-132-LNG].
Delfin LNG LLC | [FE Docket No. 13-147-LNG].

SUMMARY: The Office of Fossil Energy (FE) of the Department of Energy (DOE) gives notice of the availability of the Report Life Cycle Greenhouse Gas Perspective on Exporting Liquefied Natural Gas from the United States (Life Cycle Analysis Greenhouse Gas Report, or LCA GHG Report) in the above-referenced proceedings and invites the submission of comments regarding the LCA GHG Report. The purpose of this LCA GHG Report is to provide additional information to the public and to DOE to inform its decisions regarding the life cycle greenhouse gas (GHG) emissions of U.S. LNG exports for use in electric power generation. The LCA GHG Report (http://energy.gov/fe/LCA-GHG-Report) compares life cycle GHG emissions from U.S. LNG exports to regional coal and other imported natural gas for electric power generation in Europe and Asia. Comments submitted in compliance with the instructions in this notice will be placed in the administrative record for all of the above-listed proceedings and need only be submitted once.

DATES: Initial comments are to be filed using procedures detailed in the Public Comment section no later than 4:30 p.m., Eastern Time, July 21, 2014. All comments received need only be submitted once as they will be placed in the administrative record for each of the 25 currently pending export application dockets.

ADDRESSES:

Electronic Filing Using Online Form: http://energy.gov/fe/LCA-GHG-Report.

Regular Mail: U.S. Department of Energy (FE-34) Attn: LCA GHG Report Comments, Office of Oil & Gas Global Security & Supply, Office of Fossil Energy, P.O. Box 44375, Washington, DC 20026-4375.

Hand Delivery or Private Delivery Services (e.g., FedEx, UPS, etc.): U.S. Department of Energy (FE-34), Attn: LCA GHG Report Comments, Office of Oil & Gas Global Security & Supply, Office of Fossil Energy, Forrestal Building, Room 3E-042, 1000 Independence Avenue SW., Washington, DC 20585.

FOR FURTHER INFORMATION CONTACT:

John Anderson, U.S. Department of Energy (FE-34), Office of Natural Gas Regulatory Activities, Office of Fossil Energy, Forrestal Building, Room 3E-042, 1000 Independence Avenue SW., Washington, DC 20585, (202) 586-0521.

Edward LeDuc, U.S. Department of Energy (GC-51), Office of the Assistant General Counsel for Environment, Forrestal Building, 1000 Independence Avenue SW., Washington, DC 20585, (202) 586-4007.

SUPPLEMENTARY INFORMATION:

Background

Section 3(a) of the Natural Gas Act, 15 U.S.C. 717b(a), directs the U.S. Department of Energy (DOE) to authorize proposed exports of natural gas to countries with which the United States does not have a Free Trade Agreement (FTA) requiring national treatment for trade in natural gas (non-FTA countries), unless DOE finds that the proposed exportation will not be consistent with the public interest.

DOE presently has before it numerous applications to export liquefied natural gas (LNG) to non-FTA countries. The 25 proceedings identified above involve applications submitted by the named parties seeking authorization to export LNG by LNG tanker from large-scale liquefaction facilities in the lower-48 states to non-FTA nations. The purpose of this Notice is to post the LCA GHG Report in the 25 proceedings, and to invite comments on the LCA GHG Report, as applied to the pending matters.

The LCA GHG Report

The LCA GHG Report was conducted by the National Energy Technology Laboratory (NETL), a DOE laboratory. The LCA GHG Report estimates the life cycle GHG emissions of U.S. LNG exports to Europe and Asia, compared with alternative supplies, to produce electric power. For additional information on the natural gas model, refer to the NETL report, “Life Cycle Analysis of Natural Gas Extraction and Power Generation,” which is available at http://energy.gov/fe/LCA-GHG-Report.

The primary questions addressed by the LCA GHG Report are:

• How does exported liquefied natural gas (LNG) from the U.S. compare with regional coal (or other LNG sources) for electric power generation in Europe and Asia, from a life cycle greenhouse gas (GHG) perspective?

• How do those results compare with natural gas sourced from Russia and delivered to the same European and Asian markets via pipeline?

To address these questions, NETL applied its life cycle analysis (LCA) model to represent unconventional natural gas production and transportation to a U.S. Gulf Coast liquefaction facility, liquefaction of the gas at the facility, and transportation of the LNG to an import terminal in Rotterdam, Netherlands, to represent a European market, and to an import terminal in Shanghai, China, to represent Asian Markets. LNG produced in Algeria was modeled to represent an alternative regional LNG European market supply source with a destination of Rotterdam and LNG from Darwin, Australia was modeled to represent an alternative regional LNG Asian market supply source with a destination of Osaka, Japan. Conventional natural gas extracted from the Yamal region of Siberia in Russia was modeled as the regional pipeline gas alternative for both the European and Asian markets. Regional coal production and consumption in Germany and China were also modeled. Scenario specific variability was modeled by adjusting methane leakage for natural gas production, coal type (bituminous and sub-bituminous), transport distance (ocean tanker for LNG and rail for coal), and power plant efficiency.

DOE is not establishing a new proceeding or docket by today's issuance and the submission of comments in response to this Notice will not make commenters parties to any of the pending 25 cases. Persons with an interest in the outcome of one or more of the 25 pending matters have been given an opportunity to intervene in or protest those pending matters by complying with the procedures established in the respective notices of application issued in the pending 25 matters and published in the Federal Register. The record in the 25 pending proceedings will include all comments received in response to this Notice. Comments will be reviewed on a consolidated basis for purposes of hearing, and decisions will be issued on a case-by-case basis.

Public Comment

In response to this Notice, any person may file comments. DOE prefers comments to be filed using the online form (method 1). However, for those lacking access to the Internet, comments may be filed using method 2 or 3. The three methods are: (1) Submission of comments using the online form at http://energy.gov/fe/LCA-GHG-Report; (2) mailing comments to the Office of Oil and Gas Global Security and Supply at the address listed in ADDRESSES; and (3) delivering comments (by hand or courier) to the Office of Oil and Gas Global Security and Supply at the address listed in ADDRESSES. All filings must include a reference to LCA GHG Report Comments. PLEASE NOTE: DOE/FE is not accepting any comments by email. Any hardcopy filing submitted that is greater in length than 50 pages must also include, at the time of the filing, a digital copy on disk of the entire submission in PDF format. Please do not include any active hyperlinks or password protection in any of the electronic documents related to the filing. All electronic filings submitted to DOE must follow these guidelines to ensure that all documents are filed in a timely manner.

DOE will consider all comments received until the close of the comment period. Comments must be limited to the issues and potential impacts addressed in the LCA GHG Report, and DOE may disregard comments that are not germane.

Commenters should be advised that filings with DOE shall be subject to public disclosure, so submissions should be free of any personally identifiable information (PII) or other information that the individual does not wish to be revealed in a public forum.

Instructions for submitting comments are available at http://energy.gov/fe/LCA-GHG-Report. All comments filed in response to this Notice will be publicly available on the DOE/FE Web site (http://energy.gov/fe/LCA-GHG-Report).

The LCA GHG Report and other relevant documents are available for download at http://energy.gov/fe/LCA-GHG-Report and for inspection and copying in the Division of Natural Gas Regulatory Activities docket room, Room 3E-042, 1000 Independence Avenue SW., Washington, DC 20585. The docket room is open between the hours of 8:00 a.m. and 4:30 p.m., Monday through Friday, except Federal holidays.

Issued in Washington, DC, on May 29, 2014.
Christopher A. Smith,
Principal Deputy Assistant Secretary, Office of Fossil Energy.

[FR Doc. 2014-12927 Filed 6-3-14; 8:45 am]

BILLING CODE 6450-01-P